DEPARTMENT OF ENERGY

Federal Energy Regulatory Commission

[Project No. 2997-031]

South Sutter Water District; Notice of Intent To Prepare an Environmental Assessment

On July 1, 2019, South Sutter Water District filed an application for a major, new license for the 6.8-megawatt Camp Far West Hydroelectric Project (Camp Far West Project; FERC No. 2997). The Camp Far West Project is located on the Bear River in Yuba, Nevada, and Placer Counties, California. No federal or tribal lands occur within or adjacent to the project boundary or along the Bear River downstream of the project.

In accordance with the Commission's regulations, on March 16, 2021, Commission staff issued a notice that the project was ready for environmental analysis (REA Notice). Based on the information in the record, including comments filed on the REA Notice, staff does not anticipate that licensing the project would constitute a major federal action significantly affecting the quality of the human environment. Therefore, staff intends to prepare a draft and final Environmental Assessment (EA) on the application to relicense the Camp Far West Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare a draft and final EA for the Camp Far West Project. Therefore, in accordance with CEQ's regulations, the final EA must be issued within 1 year of the issuance date of this notice.

Milestone | Target date
Commission issues draft EA | January 2022.
Comments on draft EA | February 2022.
Commission issues final EA | May 2022 ¹

Any questions regarding this notice may be directed to Quinn Emmering at (202) 502-6382 or quinn.emmering@ferc.gov.

Dated: August 5, 2021.
Kimberly D. Bose,
Secretary.

[FR Doc. 2021-17128 Filed 8-10-21; 8:45 am]

BILLING CODE 6717-01-P